DEPARTMENT OF HEALTH AND HUMAN SERVICES

Centers for Disease Control and Prevention

Healthcare Infection Control Practices Advisory Committee (HICPAC); Correction

Notice is hereby given of a change in the meeting of the Healthcare Infection Control Practices Advisory Committee (HICPAC); March 4, 2021, 9:00 a.m. to 3:00 p.m., EST in the original FRN.

The teleconference was published in the Federal Register on January 14, 2021, Volume 86, Number 9, pages 3155-3156.

The teleconference is being corrected to update the meeting time and should read as follows:

DATE: The meeting will be held on March 4, 2021, from 1:00 p.m. to 3:00 p.m., EST.

FOR FURTHER INFORMATION CONTACT: Koo-Whang Chung, M.P.H., HICPAC, Division of Healthcare Quality Promotion, National Center for Emerging Zoonotic Infectious Diseases, CDC, 1600 Clifton Road NE, Mailstop H16-3, Atlanta, Georgia 30329-4027, telephone (404) 498-0730; HICPAC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-05784 Filed 3-18-21; 8:45 am]

BILLING CODE 4163-18-P